NEIGHBORHOOD REINVESTMENT CORPORATION

Special Board of Directors Meeting: Sunshine Act

TIME AND DATE: 2 p.m., Thursday, July 21, 2011.

PLACE: 1325 G Street, NW., Suite 800, Boardroom, Washington, DC 20005.

STATUS: Open.

CONTACT PERSON FOR MORE INFORMATION: Erica Hall, Assistant Corporate Secretary, (202) 220-2376; ehall@nw.org.

AGENDA:

I. Call to Order

II. Theory of Change

III. Strategic Plan, July 7 and February 23 Drafts

IV. Next Steps

V. Adjournment

Erica Hall,
Assistant Corporate Secretary.

[FR Doc. 2011-24078 Filed 9-15-11; 4:15 pm]

BILLING CODE 7570-02-P